DEPARTMENT OF COMMERCE

Foreign-Trade Zones Board

[Order No. 1683]

Reorganization/Expansion of Foreign-Trade Zone 20; Hampton Roads, VA, Area

Pursuant to its authority under the Foreign-Trade Zones Act of June 18, 1934, as amended (19 U.S.C. 81a-81u), the Foreign-Trade Zones Board (the Board) adopts the following Order:

Whereas, the Virginia Port Authority, grantee of Foreign-Trade Zone 20, submitted an application to the Board for authority to reorganize and expand its zone to modify and expand Site 3, to remove acreage from Site 8, to modify Site 9, and to add six new sites (proposed Sites 19-24) in the Hampton Roads, Virginia, area within the Norfolk Customs and Border Protection port of entry (FTZ Docket 19-2009, filed 4/28/09);

Whereas, notice inviting public comment was given in the Federal Register (74 FR 20927, 5/6/09) and the application has been processed pursuant to the FTZ Act and the Board's regulations; and,

Whereas, the Board adopts the findings and recommendations of the examiner's report, and finds that the requirements of the FTZ Act and Board's regulations are satisfied, and that the proposal, with respect to Sites 3, 8 and 9 and Sites 19, 21, 22, 23 and 24, is in the public interest;

Now, therefore, the Board hereby orders:

The application to reorganize and expand FTZ 20 is approved in part (with respect to Sites 3, 8 and 9 and Sites 19, 21, 22, 23 and 24), subject to the FTZ Act and the Board's regulations, including Section 400.28, to the Board's standard 2,000-acre activation limit for the overall general-purpose zone project, and to sunset provisions that would terminate authority on May 31, 2013, for existing Sites 1-18 and 25 (including the additions to Sites 3 and 9) and on May 31, 2015, for Sites 19, 21, 22, 23 and 24 where no activity has occurred under FTZ procedures before those dates.

Signed at Washington, DC, this 21st day of May, 2010.
Ronald K. Lorentzen,
Deputy Assistant Secretary for Import Administration, Alternate Chairman, Foreign-Trade Zones Board.
Andrew McGilvray,
Executive Secretary.

[FR Doc. 2010-13206 Filed 6-1-10; 8:45 am]

BILLING CODE 3510-DS-P